DEPARTMENT OF ENERGY

Federal Energy Regulatory Commission

[Project No. 2490-030]

Green Mountain Power Corporation; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2490-030.

c. Date filed: August 30, 2022.

d. Applicant: Green Mountain Power Corporation.

e. Name of Project: Taftsville Hydroelectric Project.

f. Location: On the Ottauquechee River in the Village of Taftsville, in Windsor County, Vermont. The project does not occupy federal land.

g. Filed Pursuant to: Federal Power Act 16 U.S.C. 791(a)—825(r).

h. Applicant Contact: John Greenan, Green Mountain Power Corporation, 2152 Post Road, Rutland, VT 05701; (802) 770-2195; email at John.Greenan@greenmountainpower.com.

i. FERC Contact: Monte TerHaar at (202) 502-6035; or email at monte.terhaar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 31, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Taftsville Project (P-2490-030).

m. The application is not ready for environmental analysis at this time.

n. The Taftsville Project consists of: (1) an existing 220-foot-long by 16-foot-high concrete gravity dam; (2) a 194-foot-long spillway section with a crest elevation of 637.12 feet National Geodetic Vertical Datum of 1929 (NGVD 29), topped with 18-inch wooden flashboards; (3) an existing 4,600-foot-long, 20.5-acre reservoir at normal water surface elevation 638.6 feet NGVD 29; (4) a powerhouse containing one 0.5-megawatt vertical Kaplan generating unit, with a minimum hydraulic capacity of 95 cubic feet per second (cfs) and maximum hydraulic capacity of 370 cfs; (5) a 200-foot-long tailrace section; (6) three 75-foot-long transmission lines connecting the powerhouse to the Distribution Substation, Transmission West Substation, and Transmission East Substation; and (7) appurtenant facilities. Approximately 290 feet of the Ottauquechee River, between the dam and tailrace channel, are bypassed during normal operations. The project generates 1,038 megawatt-hours annually. No changes in the project are proposed.

o. A copy of the application may be viewed on the Commission's website, using the “eLibrary” link. Enter the docket number, excluding the last three digits in the docket number field, to access the document (P-2490). For assistance, contact FERC Online Support at FERCOnlineSupport@ferc.gov, or call toll-free, (866) 208-3676 or (202) 502-8659 (TTY). A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Additional Study Requests due—October 31, 2022

Issue Deficiency Letter (if necessary)—October 2022

Request Additional Information—October 2022

Issue Scoping Document 1 for comments—January 2023

Comments on Scoping Document 1—February 2023

Issue Acceptance Notice and Letter—March 2023

Issue Scoping Document 2 (if necessary)—March 2023

Issue Notice of Ready for Environmental Analysis March 2023

Final amendments to the application must be filed with the Commission no later than 30 days from the issuance date of the notice of ready for environmental analysis.

Dated: September 9, 2022.
Kimberly D. Bose,
Secretary.

[FR Doc. 2022-19987 Filed 9-14-22; 8:45 am]

BILLING CODE 6717-01-P